FEDERAL RETIREMENT THRIFT INVESTMENT BOARD

Sunshine Act; Notice of Meeting

TIME AND DATE: 10:00 a.m. February 23, 2015 (Telephonic).

PLACE: 10th Floor Board Meeting Room, 77 K Street, NE., Washington, DC 20002.

STATUS: Open to the public.

MATTERS TO BE CONSIDERED:

Open to the Public

1. Approval of the Minutes of the January 26, 2015 Board Member Meeting

2. Monthly Reports

a. Monthly Participant Activity Report

b. Monthly Investment Policy Report

c. Legislative Report

3. Internal Audit Plan

CONTACT PERSON FOR MORE INFORMATION: Kimberly Weaver, Director, Office of External Affairs, (202) 942-1640.

Dated: February 13, 2015.
Megan Grumbine,
Deputy General Counsel, Federal Retirement Thrift Investment Board.

[FR Doc. 2015-03424 Filed 2-13-15; 11:15 am]

BILLING CODE 6720-01-P